DEPARTMENT OF ENERGY

Federal Energy Regulatory Commission

18 CFR Part 39

[Docket No. RM15-25-000]

Availability of Certain North American Electric Reliability Corporation Databases to the Commission

AGENCY: Federal Energy Regulatory Commission.

ACTION: Notice of proposed rulemaking.

SUMMARY: The Federal Energy Regulatory Commission (Commission) proposes to amend its regulations to require the North American Electric Reliability Corporation (NERC) to provide the Commission, and Commission staff, with access, on a non-public and ongoing basis, to certain databases compiled and maintained by NERC. The Commission's proposal applies to the following NERC databases: The Transmission Availability Data System, the Generating Availability Data System, and the protection system misoperations database. Access to these databases, which will be limited to data regarding U.S. facilities, will provide the Commission with information necessary to determine the need for new or modified Reliability Standards and to better understand NERC's periodic reliability and adequacy assessments.

DATES: Comments are due November 30, 2015.

ADDRESSES: Comments, identified by docket number, may be filed in the following ways:

• Electronic Filing through http://www.ferc.gov. Documents created electronically using word processing software should be filed in native applications or print-to-PDF format and not in a scanned format.

• Mail/Hand Delivery: Those unable to file electronically may mail or hand-deliver comments to: Federal Energy Regulatory Commission, Secretary of the Commission, 888 First Street NE., Washington, DC 20426.

Instructions: For detailed instructions on submitting comments and additional information on the rulemaking process, see the Comment Procedures Section of this document.

FOR FURTHER INFORMATION CONTACT:

Raymond Orocco-John (Technical Information), Office of Electric Reliability, Federal Energy Regulatory Commission, 888 First Street NE., Washington, DC 20426, Telephone: (202) 502-6593, Raymond.Orocco-John@ferc.gov.

Matthew Vlissides (Legal Information), Office of the General Counsel, Federal Energy Regulatory Commission, 888 First Street NE., Washington, DC 20426, Telephone: (202) 502-8408, Matthew.Vlissides@ferc.gov.

SUPPLEMENTARY INFORMATION:

1. The Commission proposes to amend its regulations, pursuant to section 215 of the Federal Power Act (FPA), to require the North American Electric Reliability Corporation (NERC), the Commission-certified Electric Reliability Organization (ERO), to provide the Commission, and Commission staff, with access (i.e., view and download data), on a non-public and ongoing basis, to certain databases compiled and maintained by NERC. The Commission's proposal applies to the following three NERC databases: (1) The Transmission Availability Data System (TADS), (2) the Generating Availability Data System (GADS), and (3) the protection system misoperations database. Access to these databases, which will be limited to data regarding U.S. facilities, will provide the Commission with information necessary for the Commission to determine the need for new or modified Reliability Standards and to better understand NERC's periodic reliability and adequacy assessments.

I. Background

A. Section 215 and Order No. 672

1. 2. Section 215 of the FPA requires the ERO to develop mandatory and enforceable Reliability Standards, subject to Commission review and approval. Reliability Standards may be enforced by NERC, subject to Commission oversight, or by the Commission independently.¹ In addition, section 215(g) of the FPA requires the ERO to conduct periodic assessments of the reliability and adequacy of the Bulk-Power System in North America.² Pursuant to section 215 of the FPA, the Commission established a process to select and certify an ERO,³ and subsequently certified NERC.⁴

¹ 16 U.S.C. 824o(e).

² Id. 824o(g).

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), aff'd sub nom. Alcoa, Inc. v. FERC, 564 F.3d 1342 (D.C. Cir. 2009).

3. Section 39.2(d) of the Commission's regulations requires NERC and each Regional Entity to “provide the Commission such information as is necessary to implement section 215 of the Federal Power Act.” ⁵ Section 39.2(d) of the Commission's regulations also requires each user, owner and operator of the Bulk-Power System within the United States (other than Alaska and Hawaii) to provide the Commission, NERC and each applicable Regional Entity with “such information as is necessary to implement section 215 of the Federal Power Act as determined by the Commission and set out in the Rules of the Electric Reliability Organization and each applicable Regional Entity.” ⁶

⁵ 18 CFR 39.2(d).

⁶ Id.

4. The Commission promulgated section 39.2(d) of its regulations in Order No. 672.⁷ The Commission explained in Order No. 672 that:

⁷ Order No. 672, FERC Stats. & Regs. ¶ 31,204 at P 114.

The Commission agrees . . . that, to fulfill its obligations under this Final Rule, the ERO or a Regional Entity will need access to certain data from users, owners and operators of the Bulk-Power System. Further, the Commission will need access to such information as is necessary to fulfill its oversight and enforcement roles under the statute.⁸

⁸ Id.

B. NERC Databases

5. NERC conducts ongoing data collections from registered entities to populate databases for transmission outages through TADS, generation outages through GADS, and protection system misoperations through NERC's protection system misoperations database. Each of these NERC databases is discussed below.

1. TADS Database

6. NERC began collecting TADS data on a mandatory basis in 2007 by issuing a Phase I data request pursuant to section 1600 of the NERC Rules of Procedure.⁹ The request required that, beginning in January 2008, applicable entities provide certain data for the TADS database based on a common template.¹⁰ In 2010, NERC began collecting Phase II TADS data, which include additional fields of information on transmission outages.¹¹

⁹ See generally NERC, Summary of Phase I TADS Data Collection (November 9, 2007), available at http://www.nerc.com/pa/RAPA/tads/TADSTF%20Archives%20DL/TADS_Data_Request_Summary.pdf.

¹⁰ See generally NERC, Transmission Availability Data System (TADS) Data Reporting Instruction Manual (November 20, 2007), available at http://www.nerc.com/comm/PC/Transmission%20Availability%20Data%20System%20Working%20Grou/TADSTF%20Archives/Data_Reporting_Instr_Manual_11_20_07.pdf.

¹¹ See generally NERC, Transmission Availability Data System Phase II Final Report (September 11, 2008), available at http://www.nerc.com/pa/RAPA/tads/TransmissionAvailabilityDataSyatemRF/TADS_Phase_II_Final_Report_091108.pdf.

7. Currently, the TADS database compiles transmission outage data in a common format for: (1) Bulk electric system AC circuits (overhead and underground); (2) transmission transformers (except generator step-up units); (3) bulk electric system AC/DC back-to-back converters; and (4) bulk electric system DC circuits.¹² The TADS data collection template includes the following information fields: (1) Type of facilities, (2) outage start time and duration, (3) event type, (4) initiating cause code, and (5) sustained cause code (for sustained outages).¹³ “Cause codes” for common causes of transmission outages include: (1) Lightning, (2) fire, (3) vandalism, (4) failed equipment (with multiple sub-listings), (5) vegetation, and (6) “unknown.” ¹⁴ There were 10,787 TADS events between 2012 and 2014.¹⁵

¹² See NERC TADS Home Page, available athttp://www.nerc.com/pa/RAPA/tads/Pages/default.aspx.

¹³ See Transmission Availability Data System (TADS) Data Reporting Instruction Manual (August 1, 2014), available at http://www.nerc.com/pa/RAPA/tads/Documents/2015_TADS_DRI.pdf.

¹⁴ See Transmission Availability Data System Definitions (August 1, 2014), available at http://www.nerc.com/pa/RAPA/tads/Documents/2015_TADS_Appendix_7.pdf.

¹⁵ See, e.g., NERC, State of Reliability 2015, Appendix A (Statistical Analysis for Risk Issue Identification and Transmission Outage Severity Analysis) at 86 (May 2015), available at http://www.nerc.com/pa/RAPA/PA/Performance%20Analysis%20DL/2015%20State%20of%20Reliability.pdf.

8. NERC uses TADS data to develop transmission metrics to analyze outage frequency, duration, causes, and other factors related to transmission outages.¹⁶ NERC also provides individual transmission owners with TADS metrics for their facilities.¹⁷ NERC issues an annual public report based on TADS data that shows aggregate metrics for each NERC Region, with the underlying data typically accorded confidential treatment.¹⁸

¹⁶ See NERC TADS Home Page.

¹⁷ Id.

¹⁸ Id.

2. GADS Database

9. The collection of GADS data has been mandatory since 2012, pursuant to a data request issued in accordance with section 1600 of the NERC Rules of Procedure.¹⁹ The GADS database collects, records, and retrieves operating information on power plant availability, including event, performance, and design data.²⁰ GADS data are used to support equipment reliability and availability analyses, as well as benchmarking studies.²¹

¹⁹ See NERC, Generating Availability Data System Mandatory Reporting of Conventional Generation Performance Data at 2 (July 2011), available at http://www.nerc.com/pa/RAPA/gads/MandatoryGADS/Revised_Final_Draft_GADSTF_Recommendation_Report.pdf; see also NERC GADS Home Page, available at http://www.nerc.com/pa/RAPA/gads/Pages/default.aspx.

²⁰ See NERC GADS Home Page.

²¹ Id.

10. Currently, GADS collects outage data pertaining to ten types of conventional generating units with capacity of 20 MW and larger, including: (1) Fossil steam including fluidized bed design; (2) nuclear; (3) gas turbines/jet engines; (4) internal combustion engines (diesel engines); (5) hydro units/pumped storage; (6) combined cycle blocks and their related components; (7) cogeneration blocks and their related components; (8) multi-boiler/multi-turbine units; (9) geothermal units; and (10) other miscellaneous conventional generating units (e.g., biomass, landfill gases).²² The GADS data collection template includes the following design, event, and performance information: (1) Design records, (2) event records and (3) performance records.²³ Design records refer to the characteristics of each unit such as GADS utility code, GADS unit code, NERC Regional Entity where the unit is located, name of the unit, commercial operating date, and type of generating unit (fossil, combined cycle, etc.).²⁴ Event records include information about when and to what extent the generating unit could not generate power.²⁵ Performance records refer to monthly generation, unit-attempted starts, actual starts, summary event outage information, and fuels.²⁶ NERC has developed “cause codes” for the identification of common causes of unit outages based on the type of generating unit.²⁷ For example, the cause codes section for fossil steam units includes codes for the boiler, steam turbine, generator, balance of plant, pollution control equipment, external, regulatory, safety and environmental, personnel errors, and performance testing.²⁸ For 2011-2013, the GADS database contains data from more than 5,000 units.²⁹

²² Generating Availability Data System Mandatory Reporting of Conventional Generation Performance Data at 15.

²³ Id., Appendix V (Rules of Procedure Section 1600 Justification) at 35.

²⁴ Id.

²⁵ Id.

²⁶ Id.

²⁷ NERC, Generating Availability Data System Data Reporting Instructions (January1, 2015), Appendix B (Index to System/Component Cause Codes) at 1, available at http://www.nerc.com/pa/RAPA/gads/DataReportingInstructions/Appendix_B1_Fossil_Steam_Unit_Cause_Codes.pdf.

²⁸ Id.

²⁹ State of Reliability 2015, Appendix B (Analysis of Generation Data) at 107.

11. NERC uses GADS data to measure generation reliability and publishes aggregate performance metrics for each NERC Region in publicly available annual state of reliability and reliability assessment reports.³⁰ The underlying data are typically accorded confidential treatment.

³⁰ See, e.g., id., Appendix B (Analysis of Generation Data).

3. Protection System Misoperations Database

12. Protection system misoperations data have been reported by transmission owners, generator owners and distribution providers on a mandatory basis since 2011 pursuant to Reliability Standard PRC-004.³¹ Following implementation of Reliability Standard PRC-004-4, the obligation to report misoperation data will be made mandatory through a data request pursuant to section 1600 of the NERC Rules of Procedure.³²

³¹ The Commission approved Reliability Standard PRC-004-1 (Analysis and Reporting of Transmission Protection System Misoperations) in Order No. 693. Mandatory Reliability Standards for the Bulk-Power System, Order No. 693, FERC Stats. & Regs. ¶ 31,242, at PP 1467-1469, order on reh'g, Order No. 693-A, 120 FERC ¶ 61,053 (2007). The Commission subsequently approved the following revisions and interpretations to Reliability Standard PRC-004, which was renamed Analysis and Mitigation of Transmission and Generation Protection System Misoperations: Reliability Standards PRC-004-1a, PRC-004-2, PRC-004-2a, PRC-004-2.1a, PRC-004-2.1(i)a, PRC-004-3, and PRC-004-4. See North American Electric Reliability Corporation, 136 FERC ¶ 61,208 (2011) (approving interpretation resulting in Reliability Standard PRC-004-1a and Reliability Standard PRC-004-2a); North American Electric Reliability Corp., 134 FERC ¶ 61,015 (2011) (approving Reliability Standard PRC-004-2); Generator Requirements at the Transmission Interface, Order No. 785, 144 FERC ¶ 61,221 (2012) (approving Reliability Standard PRC-004-2.1a); North American Electric Reliability Corp., 151 FERC ¶ 61,129 (2015) (approving Reliability Standard PRC-004-3); North American Electric Reliability Corporation, 151 FERC ¶ 61,186 (2015) (approving Reliability Standards PRC-004-2.1(i)a and PRC-004-4).

³² See generally NERC, Request for Data or Information Protection System Misoperation Data Collection (August 14, 2014), available at http://www.nerc.com/pa/RAPA/ProctectionSystemMisoperations/PRC-004-3%20Section%201600%20Data%20Request_20140729.pdf. Reliability Standard PRC-004-4 will become enforceable on July 1, 2016.

13. Currently, the protection system misoperations database collects more than 20 fields for a reportable misoperation event, including: (1) Misoperation date; (2) event description; (3) protection systems/components that misoperated; (4) equipment removed from service (permanently or temporarily) as the result of the misoperation; (5) misoperation category; and (6) cause(s) of misoperation.³³ For 2014, the protection system misoperations database contains information on approximately 2,000 misoperation events.³⁴

³³ Id. at 13-14; see also NERC, Protection System Misoperations Home Page, available at http://www.nerc.com/pa/RAPA/ri/Pages/ProtectionSystemMisoperations.aspx.

³⁴ State of Reliability 2015 at 47.

14. Protection system misoperations have exacerbated the severity of most cascading power outages, having played a significant role in the August 14, 2003 Northeast blackout, for example.³⁵ NERC uses protection system misoperations data to assess protection system performance and trends in protection system performance that may negatively impact reliability.³⁶ NERC publishes aggregate misoperation information for each NERC Region in annual public state of reliability reports, with the underlying data typically being accorded confidential treatment.³⁷

³⁵ See Request for Data or Information Protection System Misoperation Data Collection at 5.

³⁶ See id. at 14.

³⁷ See, e.g., State of Reliability 2015 at 45-48.

II. Discussion

15. The Commission proposes to amend the Commission's regulations to require NERC to provide the Commission, and Commission staff, with access (i.e., view and download data), on an ongoing and non-public basis, to the TADS, GADS, and protection system misoperations databases. As discussed below, the Commission believes that access to these three NERC databases, which will be limited to data regarding U.S. facilities, is necessary to carry out the Commission's obligations under section 215 of the FPA.

16. Under section 215 of the FPA, the Commission has jurisdiction over, and is responsible for oversight of, the activities and functions of the ERO and Regional Entities in the United States.³⁸ The development and maintenance of NERC databases such as TADS, GADS, and protection system misoperations are section 215 jurisdictional activities.³⁹ As explained in Order No. 672, access to relevant information, such as the information sought through this proposal, allows the Commission to fulfill its statutory obligations under section 215 of the FPA.⁴⁰ The Commission's proposed regulation would require the three NERC databases (i.e., the TADS, GADS, and protection system misoperations databases) to be made available to the Commission on a non-public and ongoing basis. This proposal comports with our authority because, as discussed below, access to the NERC databases is necessary to implement section 215. Furthermore, the Commission's proposal is consistent with section 39.2(d) of the Commission's regulations because that provision already requires the ERO and Regional Entities to “provide the Commission such information as is necessary to implement section 215 of the Federal Power Act.” ⁴¹

³⁸ 16 U.S.C. 824o(b) (“The Commission shall have jurisdiction, within the United States, over the ERO certified by the Commission . . . any regional entities, and all users, owners and operators of the bulk-power-system . . . for purposes of approving reliability standards established under this section and enforcing compliance with this section.”).

³⁹ See North American Electric Reliability Corp., 143 FERC ¶ 61,052, at P 41 (2013) (addressing statutory funding for NERC's periodic assessments and monitoring of the Bulk-Power System); see also North American Electric Reliability Corp., 149 FERC ¶ 61,028, at P 14 (2014) (approving FPA section 215 funding for NERC Reliability Assessment and Performance Analysis program (RAPA) as part of NERC's 2015 business plan and budget filing); see also NERC, Petition for Approval of 2015 Business Plan and Budget, Docket No. RR14-6-000, at 50-51 (filed Aug. 22, 2014) (identifying TADS, GADS and protection system misoperations as major activities of NERC's RAPA program).

⁴⁰ Order No. 672, FERC Stats. & Regs. ¶ 31,204 at P 114. Cf. North American Electric Reliability Corp., 120 FERC ¶ 61,239, at P 12 (2007) (directing NERC to provide the Commission with advance copies of “NERC alerts” on an informational basis to “allow the Commission to monitor for potential inconsistencies with the Reliability Standards and may inform the Commission where modifications to existing Reliability Standards or new Reliability Standards may be necessary”).

⁴¹ 18 CFR 39.2(d).

17. Access to data collected by NERC in the TADS, GADS, and protection system misoperations databases regarding U.S. facilities is necessary to carry out the Commission's statutory authority: (1) To evaluate the need to direct new or modified Reliability Standards under section 215(d)(5) of the FPA; and (2) to better understand NERC's periodic assessments and reports, including those that may be requested by the Commission, regarding the reliability and adequacy of the Bulk-Power System under section 215(g) of the FPA.

18. First, the proposed access would inform the Commission more quickly, directly and comprehensively about reliability trends or reliability gaps that might require the Commission to direct the ERO to develop new or modified Reliability Standards. Pursuant to section 215(d) of the FPA, the Commission has the responsibility of acting on proposed Reliability Standards developed by the ERO. In addition, as set forth in section 215(d)(5) of the FPA, the Commission has authority to direct the ERO “to submit to the Commission a proposed reliability standard or modification to a reliability standard that addresses a specific matter if the Commission considers such a new or modified reliability standards appropriate to carry out [section 215].” ⁴² Therefore, with respect to the development of new Reliability Standards or modification of existing Reliability Standards, section 215(d) of the FPA tasks both the Commission and the ERO (i.e., NERC) with the responsibility to monitor reliability trends or reliability gaps that might warrant the development or modification of a Reliability Standard. As discussed below, the data contained in the TADS, GADS, and protection systems misoperations databases provide insights regarding reliability performance that bear on whether existing Reliability Standards are effective; whether they require modification; or whether new Reliability Standards should be developed. However, currently the Commission does not have access to these databases, which are maintained by NERC to support its Reliability Standards work pursuant to section 215(d), and we find it appropriate that the Commission also have access to them to support the Commission's assessment of the effectiveness of existing Reliability Standards.

⁴² 16 U.S.C. 824o(d)(5).

19. The TADS, GADS, and protection system misoperations databases include important information regarding the need for new or modified Reliability Standards. For example, in describing the importance of mandatory TADS data collection, NERC stated that:

Whether a new standard is needed or whether an existing standard needs to be modified, sound data is needed for this purpose. TADS data is intended to provide a basis for standards.⁴³

⁴³ Summary of Phase I TADS Data Collection at 1.

Similarly, in justifying the need for mandatory GADS data reporting, NERC stated that GADS data “is used to calculate important performance statistics and supports bulk power trend analysis by providing information on forced outages, maintenance outages, planned outages, and deratings . . . [the] GADS database is vital to support NERC in its assessment of bulk power system reliability.” ⁴⁴ With respect to protection system misoperations data, NERC described that data as “providing several benefits to [bulk electric system] reliability and support[ing] NERC's mission of ensuring the reliability of the [Bulk-Power System] in North America.” ⁴⁵ Among other things, NERC stated that protection system misoperations data is used to “[i]dentify trends in Protection System performance that negatively impact reliability.” ⁴⁶ Accordingly, just as the information in these databases supports NERC's Reliability Standards work under section 215(d) of the FPA, we find that the Commission's access to these databases will further our work under section 215(d)(5) of the FPA to identify reliability issues that might necessitate the development or modification of Reliability Standards.

⁴⁴ Generating Availability Data System Mandatory Reporting of Conventional Generation Performance Data at 1.

⁴⁵ Request for Data or Information Protection System Misoperation Data Collection at 5.

⁴⁶ Id. at 4.

20. Second, access to the TADS, GADS, and protection system misoperations databases will assist the Commission with its understanding of the reliability and adequacy assessments periodically submitted by NERC pursuant to section 215(g) of the FPA, as well as provide the Commission with data that could support requests by the Commission for additional assessments or reports from NERC under that section. The periodic reports, such as the annual state of reliability reports, currently submitted by NERC draw heavily from these databases and provide an overview of reliability issues and trends identified through the analysis of those databases. While the aggregated TADS, GADS, and protection system misoperations data provided in NERC's periodic reports afford the Commission some insight into the reliability and adequacy trends identified by NERC, we believe that having direct access to the underlying data will assist the Commission in its understanding of the periodic reports, thereby helping the Commission to monitor causes of outages and detect emerging reliability issues.

21. The Commission proposes to locate the proposed requirement within section 39.11 of the Commission's regulations, which governs the preparation and submission of reliability reports.⁴⁷ We propose to add a new paragraph (c) that establishes a formal requirement that the ERO provide the Commission with access, on a non-public and ongoing basis, to the ERO's TADS, GADS, and protection system misoperations databases, or any successor databases thereto.

⁴⁷ 18 CFR 39.11.

22. We also recognize that the Commission's proposal might raise confidentiality issues regarding certain of the data contained in these databases. Should the Commission collect an entity's confidential information, the Commission will take appropriate steps, as provided for in our governing statutes and regulations,⁴⁸ in handling such information.

⁴⁸ See, e.g., 5 U.S.C. 552; 18 CFR 388.112, 18 CFR 388.113.

23. The Commission seeks comment from NERC and other interested entities on this proposal. Comments are due 60 days following publication of this notice of proposed rulemaking in the Federal Register.

III. Information Collection Statement

24. The Paperwork Reduction Act (PRA) ⁴⁹ requires each federal agency to seek and obtain Office of Management and Budget (OMB) approval before undertaking a collection of information directed to ten or more persons, or contained in a rule of general applicability. The OMB regulations require the approval of certain information collection requirements imposed by agency rules.⁵⁰ Upon approval of a collection(s) of information, OMB will assign an OMB control number and an expiration date. Respondents subject to the filing requirements of an agency rule will not be penalized for failing to respond to these collections of information unless the collections of information display a valid OMB control number.

⁴⁹ 44 U.S.C. 3501-3520.

⁵⁰ See 5 CFR 1320.

25. The Commission is submitting these reporting requirements to OMB for its review and approval under section 3507(d) of the PRA. Comments are solicited on the Commission's need for this information, the estimated burden and cost imposed on the ERO of providing the Commission with ongoing access to the three databases, whether the information will have practical utility, ways to enhance the quality, utility, and clarity of the information to be accessed, and any suggested methods for minimizing the respondent's burden.

26. The Commission's proposal would make TADS, GADS, and protection system misoperations data, currently collected by the ERO, available to the Commission, and its staff, on a non-public and ongoing basis. The proposal would not require the ERO to collect new information, compile information into any kind of report, or reformulate the raw data. The Commission also anticipates that it could be relatively straight-forward for the ERO to provide the Commission, and Commission staff, with access to TADS, GADS and misoperations data. Various entities currently have access to these data via an existing web interface. Providing the Commission, and Commission staff, with access may be as simple as creating log-on credentials for the Web interface. Accordingly, the Commission estimates that the one-time burden associated with compliance with this proposed rule is de minimis and is limited to the ERO reviewing the Commission's proposed regulation and providing Commission with access to the existing TADS, GADS, and protection system misoperations databases.

27. The requirements for the ERO to provide data to the Commission are included in the existing FERC-725, Certification of Electric Reliability Organization; Procedures for Electric Reliability Standards (OMB Control No. 1902-0225). FERC-725 includes information used by the Commission to implement the statutory provisions of section 215 of the FPA. FERC-725 includes the burden, reporting and recordkeeping requirements associated with: (a) Self Assessment and ERO Application, (b) Reliability Assessments, (c) Reliability Standards Development, (d) Reliability Compliance, (e) Stakeholder Survey, and (f) Other Reporting. This notice of proposed rulemaking will be submitted to OMB for review under the PRA.

28. Internal review: The Commission has reviewed the proposed regulation and has determined that the proposed regulation is necessary to ensure the reliability and integrity of the Nation's Bulk-Power System.

29. Interested persons may obtain information on the reporting requirements by contacting: Federal Energy Regulatory Commission, 888 First Street NE., Washington, DC 20426 [Attention: Ellen Brown, Office of the Executive Director, email: DataClearance@ferc.gov, Phone: (202) 502-8663, fax: (202) 273-0873]. Comments on the requirements of this rule may also be sent to the Office of Information and Regulatory Affairs, Office of Management and Budget, Washington, DC 20503 [Attention: Desk Officer for the Federal Energy Regulatory Commission]. For security reasons, comments should be sent by email to OMB at oira_submission@omb.eop.gov. Please reference OMB Control No. 1902-0225 and FERC-725 in your submission.

IV. Environmental Analysis

30. The Commission is required to prepare an Environmental Assessment or an Environmental Impact Statement for any action that may have a significant adverse effect on the human environment.⁵¹ The Commission has categorically excluded certain actions from this requirement as not having a significant effect on the human environment. Included in the exclusion are rules that are clarifying, corrective, or procedural or that do not substantially change the effect of the regulations being amended.⁵² The actions here fall within this categorical exclusion in the Commission's regulations.

⁵¹ Regulations Implementing the National Environmental Policy Act of 1969, Order No. 486, 52 FR 47897 (Dec. 17, 1987), FERC Stats. & Regs., Regulations Preambles 1986-1990 ¶ 30,783 (1987).

⁵² 18 CFR 380.4(a)(2)(ii).

V. Regulatory Flexibility Act

31. The Regulatory Flexibility Act of 1980 (RFA) ⁵³ generally requires a description and analysis of proposed rules that will have significant economic impact on a substantial number of small entities. The Small Business Administration (SBA) revised its size standard (effective January 22, 2014) for electric utilities from a standard based on megawatt hours to a standard based on the number of employees, including affiliates.⁵⁴

⁵³ 5 U.S.C. 601-612.

⁵⁴ SBA Final Rule on “Small Business Size Standards: Utilities,” 78 FR 77,343 (Dec. 23, 2013).

32. The Commission proposes to amend the Commission's regulations to require only the ERO (i.e., NERC) to provide the Commission, and Commission staff, with access, on a non-public and ongoing basis, to the existing TADS, GADS, and protections system misoperations databases. As discussed above, we estimate that the costs to the ERO associated with the Commission's proposal will be de minimis. Accordingly, the Commission certifies that this proposal will not have a significant economic impact on a substantial number of small entities.

VI. Comment Procedures

33. The Commission invites interested persons to submit comments on the matters and issues proposed in this document to be adopted, including any related matters or alternative proposals that commenters may wish to discuss. Comments are due November 30, 2015. Comments must refer to Docket No. RM15-25-000, and must include the commenter's name, the organization they represent, if applicable, and their address in their comments.

34. The Commission encourages comments to be filed electronically via the eFiling link on the Commission's Web site at http://www.ferc.gov. The Commission accepts most standard word processing formats. Documents created electronically using word processing software should be filed in native applications or print-to-PDF format and not in a scanned format. Commenters filing electronically do not need to make a paper filing.

35. Commenters that are not able to file comments electronically must send an original of their comments to: Federal Energy Regulatory Commission, Secretary of the Commission, 888 First Street NE., Washington, DC 20426.

36. All comments will be placed in the Commission's public files and may be viewed, printed, or downloaded remotely as described in the Document Availability section below. Commenters on this proposal are not required to serve copies of their comments on other commenters.

VII. Document Availability

37. In addition to publishing the full text of this document in the Federal Register, the Commission provides all interested persons an opportunity to view and/or print the contents of this document via the Internet through the Commission's Home Page (http://www.ferc.gov) and in the Commission's Public Reference Room during normal business hours (8:30 a.m. to 5:00 p.m. Eastern time) at 888 First Street NE., Room 2A, Washington, DC 20426.

38. From the Commission's Home Page on the Internet, this information is available on eLibrary. The full text of this document is available on eLibrary in PDF and Microsoft Word format for viewing, printing, and/or downloading. To access this document in eLibrary, type the docket number excluding the last three digits of this document in the docket number field.

39. User assistance is available for eLibrary and the Commission's Web site during normal business hours from the Commission's Online Support at 202-502-6652 (toll free at 1-866-208-3676) or email at ferconlinesupport@ferc.gov, or the Public Reference Room at (202) 502-8371, TTY (202)502-8659. Email the Public Reference Room at public.referenceroom@ferc.gov.

List of subjects in 18 CFR Part 39

Electric power, and reporting and recordkeeping requirements.

By direction of the Commission. Commissioner LaFleur is concurring with a separate statement attached.
Dated: September 17, 2015.
Nathaniel J. Davis, Sr.,
Deputy Secretary.

In consideration of the foregoing, the Commission proposes to amend Chapter I, Title 18, Part 39 of the Code of Federal Regulations, as follows:

PART 39—RULES CONCERNING CERTIFICATION OF THE ELECTRIC RELIABILITY ORGANIZATION; AND PROCEDURES FOR THE ESTABLISHMENT, APPROVAL, AND ENFORCEMENT OF ELECTRIC RELIABILITY STANDARDS

1. The authority citation for part 39 continues to read as follows:

Authority: 16 U.S.C. 824o.

2. Amend § 39.11 by adding paragraph (c) as follows:

§ 39.11 Reliability reports.

* * * * *

(c) The Electric Reliability Organization shall make available to the Commission, on a non-public and ongoing basis, access to the Transmission Availability Data System, Generating Availability Data System, and protection system misoperations databases, or any successor databases thereto.

Note: The following text will not appear in the Code of Federal Regulations.

Availability of Certain North American Electric Reliability Corporation Databases to the Commission

(Issued September 17, 2015)

LaFLEUR, Commissioner, concurring: Today's order proposes to revise the Commission's regulations to provide the Commission and its staff with access, on a non-public and ongoing basis, to three databases maintained by the North American Electric Reliability Corporation (NERC): (1) The Transmission Availability Data System (TADS), (2) the Generating Availability Data System (GADS), and (3) the protection system misoperations database. As explained in the order, the Commission concludes that access to these databases would support its work under section 215(d)(5) of the Federal Power Act (FPA) to monitor reliability trends and issues that may warrant the development of new or modified reliability standards.

On rare occasions, the Commission has exercised its authority to direct NERC to develop new standards to address reliability risks not covered in existing standards, such as geomagnetic disturbances and physical security. While I do not expect the Commission to frequently invoke that authority going forward, I agree that the information in these databases would assist the Commission with its responsibilities under section 215(d)(5), as well as its understanding of NERC's assessments under section 215(g). Access to these databases could therefore support the Commission's oversight of several steps of the reliability cycle, including event analysis, establishment of metrics, setting reliability priorities, and improving the standards development and review process.

I recognize, however, that under section 215 of the FPA, NERC and the Commission have a unique relationship, since Congress vested a significant amount of authority over the standards process in the Electric Reliability Organization (i.e., NERC) and clearly prescribed the Commission's oversight role. It is important that we recognize the distinction between that oversight role and NERC's primary responsibility to monitor reliability issues and propose standards to address them. Ultimately, I believe our efforts to sustain and improve the reliability of the bulk electric system are furthered by mutual trust and shared priorities between the Commission and NERC.

I understand that today's proposal might be controversial within the NERC community. I therefore welcome comment on the proposal, including any potential issues or concerns not identified in the NOPR, to provide a full record for the Commission to consider in deciding whether to proceed to a final rule.

Accordingly, I respectfully concur.

Cheryl A. LaFleur

Commissioner

[FR Doc. 2015-24282 Filed 9-28-15; 8:45 am]

BILLING CODE 6717-01-P